FEDERAL COMMUNICATIONS COMMISSION

Sunshine Act Meeting; Open Commission Meeting, Thursday, April 13, 2000

April 6, 2000.

The Federal Communications Commission will hold an Open Meeting on the subjects listed below on Thursday, April 13, 2000, which is scheduled to commence at 9:30 a.m. in room TW-C305, at 445 12th Street, S.W., Washington, D.C.

Item No. | Bureau | Subject
1 | Common Carrier | TITLE: Implementation of the Subscriber Carrier Selection Changes Provisions of the Telecommunications Act of 1996; and Policies and Rules Concerning Unauthorized Changes of Consumers Long Distance Carriers (CC Docket No. 94-129).
|  | SUMMARY: The Commission will reconsider petitions for reconsideration of the Second Report and Order pursuant to Section 258 of the Act, which prohibits a carrier from submitting or executing changes in a subscriber's telephone service except in accordance with the Commission's verification procedures.
2 | Cable Services | TITLE: Closed Captioning and Video Description of Video Programming; Implementation of Section 305 of the Telecommunications Act of 1996; and Accessibility of Emergency Programming (MM Docket No. 95-176).
|  | SUMMARY: The Commission will consider a Second Report and Order concerning the accessibility of emergency information programming to persons with hearing disabilities.
3 | Office of Plans and Policy and Office of Engineering and Technology | TITLE: Compatibility Between Cable Systems and Consumer Electronics Equipment.
|  | SUMMARY: The Commission will consider a Notice of Proposed Rule Making addressing the issues of labeling digital television sets to indicate their capability to operate with cable television systems and of licensing terms for copy protection technology.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http;//www.itsi.com.

This meeting can be viewed over George Mason University's Capitol Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communication Commission.
Magalie Roman Salas,
Secretary.

[FR Doc. 00-9120 Filed 4-7-00; 8:45 am]

BILLING CODE 6712-01-M